DEPARTMENT OF COMMERCE

National Oceanic and Atmospheric Administration

RIN 0648-XG446

South Atlantic Fishery Management Council; Public Meeting

AGENCY: National Marine Fisheries Service (NMFS), National Oceanic and Atmospheric Administration (NOAA), Commerce.

ACTION: Meeting of the South Atlantic Fishery Management Council.

SUMMARY: The South Atlantic Fishery Management Council (Council) will hold meetings of the following: Advisory Panel Selection Committee (Closed Session); Southeast Data, Assessment and Review (SEDAR) Committee; Standard Operating, Policy, and Procedure (SOPPs) Committee; Spiny Lobster Committee; Habitat Protection and Ecosystem-Based Management Committee; Snapper Grouper Committee; Mackerel Cobia Committee; and Executive Finance Committee. The Council meeting week will also include a Recreational Fishing Workshop, a formal public comment period, and a meeting of the full Council.

DATES: The Council meeting will be held from 1 p.m. on Sunday, September 16, 2018 until 12 p.m. on Friday, September 21, 2018.

ADDRESSES: The meeting will be held at the Town and Country Inn, 2008 Savannah Highway, Charleston, SC phone: (843) 571-1000; fax: (843) 766-9444.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net. Meeting information is available from the Council's website at: http://safmc.net/safmc-meetings/council-meetings/.

SUPPLEMENTARY INFORMATION:

Public comment: Written comments may be directed to Gregg Waugh, Executive Director, South Atlantic Fishery Management Council (see ADDRESSES) or electronically via the Council's website at http://safmc.net/safmc-meetings/council-meetings/. The public comment form is open for use when the briefing book is posted to the website on the Friday, two weeks prior to the Council meeting (8/31/18). Comments received by close of business the Monday before the meeting (9/10/18) will be compiled, posted to the website as part of the meeting materials, and included in the administrative record; please use the Council's online form available from the website. For written comments received after the Monday before the meeting (after 9/10/18), individuals submitting a comment must use the Council's online form available from the website. Comments will automatically be posted to the website and available for Council consideration. Comments received prior to noon on Thursday, September 20, 2018 will be a part of the meeting administrative record.

The items of discussion in the individual meeting agendas are as follows:

Recreational Workshop, Sunday, September 16, 2018 From 1 p.m. Until 5 p.m. and Monday, September 17, 2018, 8:30 a.m. Until 12 p.m.

The Council is cooperating with the American Sportfishing Association (ASA), Coastal Conservation Association (CCA), and Yamaha Marine Group to conduct a Recreational Workshop prior to the Council meeting. The September workshop is part of a 3-phrase project to explore approaches to innovative management of the private recreational sector of the South Atlantic Snapper Grouper fishery. Participants include Council members and Snapper Grouper advisory panel representatives, and other invited representatives identified by ASA from the recreational fishing community that are familiar with the Council process and recreational fishing issues. The public is welcome to attend and listen to the workshop and subsequent regional meetings. Comments on the September workshop may be provided during the Council meeting public comment session scheduled for Wednesday, September 19, 2018 at 4 p.m.

Swearing in of New Council Members, Monday, September 17, 2018, 1:30 p.m. Until 1:40 p.m.

Newly appointed Council members will be sworn to duty by the NOAA Fisheries Regional Administrator.

Advisory Panel Selection Committee (Closed Session), Monday, September 17, 2018, 1:40 p.m. Until 2:30 p.m.

1. The Committee will review applications for open seats on its System Management Plan Workgroup and advisory panels and provide recommendations for appointments.

2. The Committee will also discuss improving communication with advisory panels and provide direction to staff.

SEDAR Committee, Monday, September 17, 2018, 2:30 p.m. Until 3:30 p.m.

The Committee will receive an update on stock assessment activities including an overview of projects, Steering Committee actions, discuss items for the next Steering Committee meeting, and provide guidance to staff as needed.

SOPPs Committee, Monday, September 17, 2018, 3:30 p.m. Until 5 p.m.

The Committee will review and approve proposed changes to the Council Handbook and develop recommendations as appropriate.

Spiny Lobster Committee, Tuesday, September 18, 2018, 8:30 a.m. Until 9:30 a.m.

1. The Committee will receive an update on the status of 2017-2018 catches versus annual catch limit (ACLs) and an update from NOAA Fisheries on the status of amendments under formal review.

2. The Committee will review Spiny Lobster Amendment 13 addressing bullynets and measures recommended by the Florida Fish and Wildlife Conservation Commission (FWC), consider public comment, and consider approval for formal Secretarial review.

Habitat Protection and Ecosystem-Based Management Committee, Tuesday, September 18, 2018, 9:30 a.m. Until 12 p.m.

1. The Committee will discuss ways to address species migration northwards along the Atlantic Coast, with input from the New England Fishery Management Council, the Mid-Atlantic Fishery Management Council, and the South Atlantic Fishery Management Council. The committee will provide guidance and take action as appropriate.

2. The committee will receive an update on the Fishery Ecosystem Plan II Dashboard and tools, an overview of NOAA Fisheries Ecosystem-Based Fishery Management Implementation Plan draft for the South Atlantic Region, and take action as needed.

Snapper Grouper Committee Meeting, Tuesday, September 18, 2018, 1:30 p.m. Until 5 p.m. and Wednesday, September 19, 2018, 8:30 a.m. Until 3:00 p.m.

1. The committee will receive updates from NOAA fisheries on commercial catches versus quotas for species under ACLS and the status of amendments under formal secretarial review.

2. The Committee will review public scoping comments received for Snapper Grouper Regulatory Amendment 29 addressing best practices and options for use of powerhead gear and approve actions and alternatives to be analyzed as appropriate.

3. The Committee will receive an overview of Vision Blueprint Regulatory Amendment 26 addressing recreational management actions and alternatives as identified in the 2016-2020 Vision Blueprint for the Snapper Grouper Fishery Management Plan. The Committee will modify the document as necessary, select preferred alternatives, and approve all actions.

4. The Committee will receive an overview of Vision Blueprint Regulatory Amendment 27 addressing commercial management actions and alternatives, as identified in the 2016-2020 Vision Blueprint for the Snapper Grouper Fishery. The Committee will modify the document as necessary and consider approval for formal Secretarial review.

5. The Committee will review public scoping comments for Snapper Grouper Amendment 47 addressing federal for-hire permit modification options and provide guidance to staff.

6. The Committee will receive an overview of Regulatory Amendment 30 addressing a rebuilding plan for red grouper, modify the draft amendment as necessary and approve preferred alternatives.

7. The Committee will review public scoping comments for Snapper Grouper Regulatory Amendment 32 addressing yellowtail snapper accountability measures, review the draft amendment, modify actions, and consider approval for public hearings.

8. The Committee will review Abbreviated Framework Amendment 2 addressing measures for vermilion snapper and black sea bass, modify the draft amendment as necessary, choose preferred alternatives, and consider approval for formal Secretarial review.

Mackerel Cobia Committee, Wednesday, September 19, 2018, 3 p.m. Until 4 p.m.

1. The Committee will receive an update on commercial catches versus ACLs, and an update on the status of amendments under formal review by NOAA Fisheries.

2. The Committee will review Coastal Migratory Pelagics Framework Amendment 6 addressing Atlantic king mackerel trip limits, confirm preferred alternatives, and consider approval for formal Secretarial Review.

Formal Public Comment, Wednesday, September 19, 2018, 4 p.m.

Public comment will be accepted on items on the Council meeting agenda scheduled to be approved for Secretarial Review: Snapper Grouper Abbreviated Framework 2 Amendment (vermilion snapper and black sea bass); Snapper Grouper Vision Blueprint Regulatory Amendment 27 (commercial measures); CMP Framework Amendment 6 (King mackerel trip limits); and Spiny Lobster Amendment 13 (Update management procedures and bully net measures). Public comment will also be accepted on all agenda items. The Council Chair, based on the number of individuals wishing to comment, will determine the amount of time provided to each commenter.

Executive/Finance Committee, Thursday, September 20, 2018, 8:30 a.m. Until 12 p.m.

1. The Committee will receive an overview of the current Magnuson-Stevens Reauthorization efforts and the CCC Working Paper which includes positions on reauthorization, discuss, and provide guidance to staff.

2. The Committee will receive an overview of the draft Calendar-Year 2018 budget and approve the budget.

3. The committee will review the Council's Follow Up document and Priorities list, discuss, and provide guidance to staff.

4. The Committee will receive an update on regulatory reform efforts, a review of NOAA Fisheries issues open for comment, and an overview of the Law Enforcement Advisory Panel meeting schedule. The committee will discuss these agenda items and provide guidance to staff.

Council Session: Thursday, September 20, 2018, 1:30 p.m. Until 5 p.m. and Friday, September 21, 2018, 8:30 a.m. Until 12 p.m. (Partially Closed Session if Needed)

The Full Council will begin with the Call to Order, adoption of the agenda, approval of minutes, election of chair and vice chair, and awards/recognition.

The Council will receive a Legal Briefing on Litigation from NOAA General Counsel (if needed) during Closed Session. The Council will receive staff reports including the Executive Director's Report, and updates from Council staff on the MyFishCount pilot project, outreach for for-hire electronic reporting requirements, the Council's Citizen Science Program, and the transition to an electronic newsletter.

Updates will be provided by NOAA Fisheries including a report on the status of commercial catches versus ACLs for species not covered during an earlier committee meeting, data-related reports, protected resources updates, update on the status of the of the Commercial Electronic Logbook Program, and the status of the Marine Recreational Information Program (MRIP) conversions for recreational fishing estimates. The Council will discuss and take action as necessary.

The Council will review any Exempted Fishing Permits received as necessary. The Council will receive an overview of MRIP and Revisions from NOAA Fisheries as well as Draft Amendment 11 to the 2006 Consolidated Atlantic Highly Migratory Species Fishery Management Plan for Management of Shortfin Mako Sharks and take action as appropriate.

The Council will receive committee reports from the Snapper Grouper, Mackerel Cobia, Spiny Lobster, AP Selection, SEDAR, Habitat, SOPPs, and Executive Finance Committees, as well a report from the Recreational Workshop, and take action as appropriate.

The Council will receive agency and liaison reports; and discuss other business and upcoming meetings.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: August 28, 2018.
Tracey L. Thompson,
Acting Deputy Director, Office of Sustainable Fisheries, National Marine Fisheries Service.

[FR Doc. 2018-18979 Filed 8-30-18; 8:45 am]

BILLING CODE 3510-22-P